DEPARTMENT OF TRANSPORTATION

Federal Aviation Administration

14 CFR Part 39

[Docket No. FAA-2021-0834; Project Identifier MCAI-2021-00298-R; Amendment 39-21844; AD 2021-25-01]

RIN 2120-AA64

Airworthiness Directives; Leonardo S.p.a. Helicopters

AGENCY: Federal Aviation Administration (FAA), DOT.

ACTION: Final rule.

SUMMARY: The FAA is adopting a new airworthiness directive (AD) for certain Leonardo S.p.a. Model A109S and AW109SP helicopters. This AD was prompted by the discovery that rubber protection of certain electrical wiring had not been installed in the baggage avionics bay during production. This AD requires installing protective rubber borders on the edge of the baggage avionics bay frames, as specified in a European Union Aviation Safety Agency (EASA) AD, which is incorporated by reference. The FAA is issuing this AD to address the unsafe condition on these products.

DATES: This AD is effective January 24, 2022.

The Director of the Federal Register approved the incorporation by reference of a certain publication listed in this AD as of January 24, 2022.

ADDRESSES: For EASA material incorporated by reference (IBR) in this AD, contact EASA, Konrad-Adenauer-Ufer 3, 50668 Cologne, Germany; telephone +49 221 8999 000; email ADs@easa.europa.eu; internet www.easa.europa.eu. You may find the EASA material on the EASA website at https://ad.easa.europa.eu. For Leonardo Helicopters service information identified in this final rule, contact Leonardo S.p.A. Helicopters, Emanuele Bufano, Head of Airworthiness, Viale G.Agusta 520, 21017 C.Costa di Samarate (Va) Italy; telephone +39-0331-225074; fax +39-0331-229046; or at https://customerportal.leonardocompany.com/en-US/. You may view this material at the FAA, Office of the Regional Counsel, Southwest Region, 10101 Hillwood Pkwy., Room 6N-321, Fort Worth, TX 76177. For information on the availability of this material at the FAA, call (817) 222-5110. Service information that is incorporated by reference is also available in the AD docket at https://www.regulations.gov by searching for and locating Docket No. FAA-2021-0834.

Examining the AD Docket

You may examine the AD docket at https://www.regulations.gov by searching for and locating Docket No. FAA-2021-0834; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

FOR FURTHER INFORMATION CONTACT: Hal Jensen, Aerospace Engineer, Operational Safety Branch, Compliance & Airworthiness Division, FAA, 950 L'Enfant Plaza N SW, Washington, DC 20024; telephone (202) 267-9167; email hal.jensen@faa.gov.

SUPPLEMENTARY INFORMATION:

Background

EASA, which is the Technical Agent for the Member States of the European Union, has issued EASA AD 2021-0065, dated March 8, 2021 (EASA AD 2021-0065), to correct an unsafe condition for certain serial-numbered Leonardo S.p.A. Helicopters, formerly Finmeccanica S.p.A., AgustaWestland S.p.A., Agusta S.p.A., Model A109S and AW109SP helicopters.

The FAA issued a notice of proposed rulemaking (NPRM) to amend 14 CFR part 39 by adding an AD that would apply to Leonardo S.p.a. Model A109S and AW109SP helicopters as identified in EASA AD 2021-0065. The NPRM published in the Federal Register on September 30, 2021 (86 FR 54124). The NPRM was prompted by the discovery that rubber protection of certain electrical wiring had not been installed in the baggage avionics bay during production. The NPRM proposed to require installing protective rubber borders on the edge of the baggage avionics bay frames, as specified in EASA AD 2021-0065.

The FAA is issuing this AD to prevent chafing of electrical wiring, which if not addressed, could result in fire ignition and smoke in the baggage compartment and subsequent loss of control of the helicopter. See EASA AD 2021-0065 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Service Information Under 1 CFR Part 51

EASA AD 2021-0065 requires installing rubber protections on the electrical wiring in the baggage/avionics compartment.

This material is reasonably available because the interested parties have access to it through their normal course of business or by the means identified in the ADDRESSES section.

Other Related Service Information

The FAA reviewed Leonardo Helicopters Alert Service Bulletin (ASB) No. 109S-100, dated February 2, 2021, for Model A109S helicopters, and Leonardo Helicopters ASB No. 109SP-142, also dated February 2, 2021, for Model AW109SP helicopters. This service information specifies procedures for installing protective rubber borders on the edge of the baggage avionics bay frames.

Costs of Compliance

The FAA estimates that this AD affects 3 helicopters of U.S. Registry. Labor rates are estimated at $85 per work-hour. Based on these numbers, the FAA estimates the following costs to comply with this AD.

Installing protective rubber borders on the edge of the baggage avionics bay frames will take about 2 work-hours and parts will cost about $24 for an estimated cost of $194 per helicopter and $582 for the U.S. fleet.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-25-01 Leonardo S.p.a.: Amendment 39-21844; Docket No. FAA-2021-0834; Project Identifier MCAI-2021-00298-R.

(a) Effective Date

This airworthiness directive (AD) is effective January 24, 2022.

(b) Affected ADs

None.

(c) Applicability

This AD applies to Leonardo S.p.a. Model A109S and AW109SP helicopters, certificated in any category, as identified in European Union Aviation Safety Agency (EASA) AD 2021-0065, dated March 8, 2021 (EASA AD 2021-0065).

(d) Subject

Joint Aircraft Service Component (JASC) Code: 2497, Electrical Power System Wiring.

(e) Unsafe Condition

This AD was prompted by the discovery that rubber protection of certain electrical wiring had not been installed in the baggage avionics bay during production. The FAA is issuing this AD to prevent chafing of electrical wiring. The unsafe condition, if not addressed, could result in fire ignition and smoke in the baggage compartment and subsequent loss of control of the helicopter.

(f) Compliance

Comply with this AD within the compliance times specified, unless already done.

(g) Requirements

Except as specified in paragraph (h) of this AD: Comply with all required actions and compliance times specified in, and in accordance with, EASA AD 2021-0065.

(h) Exceptions to EASA AD 2021-0065

(1) Where EASA AD 2021-0065 requires compliance in terms of flight hours, this AD requires using hours time-in-service.

(2) Where EASA AD 2021-0065 refers to its effective date, this AD requires using the effective date of this AD.

(3) This AD does not mandate compliance with the “Remarks” section of EASA AD 2021-0065.

(i) No Reporting Requirement

Although the service information referenced in EASA AD 2021-0065 specifies to submit certain information to the manufacturer, this AD does not include that requirement.

(j) Special Flight Permit

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Hal Jensen, Aerospace Engineer, Operational Safety Branch, Compliance & Airworthiness Division, FAA, 950 L'Enfant Plaza N SW, Washington, DC 20024; telephone (202) 267-9167; email hal.jensen@faa.gov.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0065, dated March 8, 2021.

(ii) [Reserved]

(3) For EASA AD 2021-0065, contact EASA, Konrad-Adenauer-Ufer 3, 50668 Cologne, Germany; telephone +49 221 8999 000; email ADs@easa.europa.eu; internet www.easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-0834.

(5) You may view this material that is incorporated by reference at the National Archives and Records Administration (NARA). For information on the availability of this material at NARA, email fr.inspection@nara.gov, or go to: https://www.archives.gov/federal-register/cfr/ibr-locations.html.

Issued on November 23, 2021.
Lance T. Gant,
Director, Compliance & Airworthiness Division, Aircraft Certification Service.

[FR Doc. 2021-27390 Filed 12-17-21; 8:45 am]

BILLING CODE 4910-13-P